DEPARTMENT OF HOUSING AND URBAN DEVELOPMENT

[Docket No. FR-5505-FA-01]

Announcement of Funding Awards; Energy Innovation Fund—Multifamily Pilot Program Fiscal Year 2010

AGENCY: Office of the Assistant Secretary for Housing—Federal Housing Commissioner, HUD.

ACTION: Announcement of funding awards.

SUMMARY: In accordance with section 102(a)(4)(C) of the Department of Housing and Urban Development Reform Act of 1989, this announcement notifies the public of funding decisions made by the Department for funding under the Notice of Funding Availability (NOFA) for the Energy Innovation Fund—Multifamily Pilot Program (EIF) for Fiscal Year (FY) 2010. This announcement alphabetically lists the organizational names and addresses of those award recipients selected for funding based on one of two award categories (applied research or financial demonstration), the amount of the award, and the area of geographic impact.

FOR FURTHER INFORMATION CONTACT: Linda W. Field, Director of Portfolio Management, Office of Affordable Housing Preservation, U.S. Department of Housing and Urban Development, 451 Seventh Street SW., Room 6222, Washington, DC 20410. Telephone number 202-402-8374 (this is not a toll-free number). Persons with hearing or speech impairments may access this number through TTY by calling the toll-free Federal Relay Service at 800-877-8339.

SUPPLEMENTARY INFORMATION: Pursuant to the Consolidated Appropriations Act of 2010 (Pub. L. 111-117), the Energy Innovation Fund Program (EIF) will support innovations in financing and conducting applied research to address primary barriers to the retrofitting of certain multifamily residential properties to be more energy efficient on a cost effective basis. The goals of this NOFA are to: (1) Demonstrate solutions to the primary and longstanding challenges to implementing energy efficiency and renewable energy improvements in existing affordable multifamily properties; (2) leverage private capital and additional public funding to demonstrate “proof of concept” of specific models; and (3) conduct applied research to document and disseminate mainstream, scalable approaches to retrofitting affordable multifamily properties.

The Department published its Energy Innovation Fund—Multifamily Pilot Program (EIF) Notice of Funding Availability (NOFA) on August 22, 2011 announcing the availability of $25,000,000 out of the Department's FY 2010 budget appropriation, to be utilized for EIF projects and activities. Funding availability for Financing Demonstration Components was capped at $7,500,000 and for Applied Research Demonstration Components, the maximum award amount was $3,000,000 to any applicant.

The Department reviewed, evaluated and scored the applications received based on the criteria in the FY 2010 NOFA. As a result, HUD has funded the twelve applications announced in Appendix A, and in accordance with section 102(a)(4)(C) of the Department of Housing and Urban Development Reform Act of 1989 (103 Stat. 1987, 42 U.S.C. 3545), the Department is hereby publishing details identifying the recipients of funding awards and their scope of work in Appendix A of this document.

Dated: April 29, 2013.
Laura M. Marin,
Acting General Deputy Assistant Secretary for Housing.

Appendix A
Organization | Key contact | Grant amount | Geographic impact
APPLIED RESEARCH DEMONSTRATION
Columbus Property Management & Development, Inc., 2042-48 Arch Street, 2nd Floor, Philadelphia, PA 19103 | Moira Rooney 215-557-8484 x3251 | $3,000,000 | Greater Philadelphia metropolitan area.
Community Environmental Center, Inc., 43-10 11th Street, Long Island City, New York 11101 | Jay Ackley 718-784-1444 x148 | 3,000,000 | New York City (Bronx, Brooklyn, Manhattan, and Queens).
Enterprise Community Partners, Inc., One Whitehall Street, 11th Floor, New York, NY 10004 | Esther Toporovsky 212-284-7104 | 2,795,071 | New York City, Chicago Area, Southern California.
Heat Watch, LLC, 6 Beechwood Drive, Glen Head, NY 11545 | Daniel Carleton 516-672-1499 | 356,300 | New York City (Bronx, Brooklyn, and Manhattan), and Yonkers.
iCast, 777 South Wadsworth Boulevard, Building 4, Suite 205, Lakewood, Colorado 80226 | Ravi Malhotra 303-462-4100 x801 | 590,118 | State of Colorado.
Jonathan Rose Companies, LLC, 551 Fifth Avenue, New York, NY 10176 | Clay McPhail 917-542-3647 | 325,732 | Newark, New Jersey.
New Ecology, Inc., 15 Court Square, Suite 420, Boston, MA 02108 | Eric Gardner 617-557-1700 x35 | 989,275 | Commonwealth of Massachusetts.
Stewards of Affordable Housing for the Future, 555 11th Street NW., Suite 525, Washington, DC 20004 | Rick Samson 202-737-5978 | 1,500,000 | National scope.
University of Illinois, (The Board of Trustees of), 1901 South First Street, Champaign, IL 61820-7406 | Kate Brown 217-244-4671 | 500,000 | Champaign, Cook, Lake, and Union counties.
Total for Applied Research Demonstration Component |  | 13,056,496
FINANCING DEMONSTRATION
Maryland Dept. of Housing & Community Development, 100 Community Place, Crownsville, MD 21032 | Danielle England 410-514-7441 | 1,250,000 | Anne Arundel, Baltimore, Cecil, Frederick, Hartford, Howard, Montgomery, Prince George's, and St. Mary's Counties.
Network for Oregon Affordable Housing, 1020 SW Taylor, Suite 585, Portland, Oregon 97205 | Bill Van Vliet 503-501-5680 | 3,000,000 | Greater Portland, OR metropolitan area.
NRG Solutions, LLC, 6 Faneuil Hall Marketplace, Boston, MA 02109 | Darien Crimmons 617-239-4540 | 5,250,000 | NY, CT, MA, RI, VT, ME, and New York City.
Total for Financing Demonstration Component |  | 9,500,000
Total EIF Grant Awards |  | 22,556,496

[FR Doc. 2013-10414 Filed 5-1-13; 8:45 am]

BILLING CODE 4210-67-P